DEPARTMENT OF TRANSPORTATION

Federal Motor Carrier Safety Administration

Inspection, Repair, and Maintenance; Periodic Inspection of Commercial Motor Vehicles

AGENCY: Federal Motor Carrier Safety Administration (FMCSA), DOT.

ACTION: Acceptance of State of Ohio bus inspection programs and republication of accepted State programs.

SUMMARY: The FMCSA announces it accepts the State of Ohio's periodic inspection program for buses. The FMCSA previously accepted Ohio's inspection program for church buses and added it to the list of programs that are comparable to, or as effective as, the Federal periodic inspection requirements contained in the Federal Motor Carrier Safety Regulations (FMCSRs). The state has since expanded its program and now requires that all buses undergo an annual inspection by the Ohio State Patrol. This notice also publishes the list of all inspection programs that meet the FMCSR requirement.

DATES: This action is effective on June 18, 2001.

FOR FURTHER INFORMATION CONTACT: Mr. Larry W. Minor, Office of Bus and Truck Standards and Operations, MC-PSV, (202) 366-4009; Federal Motor Carrier Safety Administration, 400 Seventh Street, SW., Washington, DC 20590. Office hours are from 7:45 a.m. to 4:15 p.m., e.t., Monday through Friday, except Federal holidays.

SUPPLEMENTARY INFORMATION:

Background

Section 210 of the Motor Carrier Safety Act of 1984 (49 U.S.C. 31142) (the Act) requires the Secretary of Transportation (the Secretary) to prescribe standards for annual, or more frequent, inspection of commercial motor vehicles (CMVs) unless the Secretary finds another inspection system is as effective as an annual or more frequent inspection. In 1988, the Federal Highway Administration (FHWA) published a final rule amending 49 CFR part 396 (53 FR 49402, December 7, 1988) to require CMVs operated in interstate commerce to be inspected at least once a year. Under section 396.17 the inspection is to be based on Federal inspection standards, or a State inspection program determined by the FMCSA to be comparable to, or as effective as, the Federal standards. Accordingly, if the agency determines a State's periodic inspection program is comparable to, or as effective as, the requirements of part 396, then a motor carrier must ensure that all of its commercial motor vehicles which are required by that State to be inspected through the State's inspection program are inspected. If a State does not have such a program, the motor carrier is responsible for ensuring its vehicles are inspected using one of the alternatives included in section 396.17.

In 1989, the FHWA (the DOT agency with responsibility for motor vehicle safety until the establishment of the FMCSA in 2000), published a notice in the Federal Register that requested States and other interested parties to identify and provide information on the commercial motor vehicle inspection programs in their respective jurisdictions as contemplated by section 396.17 (54 FR 11020, March 16, 1989). Upon review of the information submitted, the FHWA published a list of State inspection programs that were determined to be comparable to the Federal requirements (54 FR 50726, December 8, 1989). This initial list included 15 States and the District of Columbia. In 1991 the list was revised to include the inspection programs of the Alabama Liquefied Petroleum Gas (LPG) Board, California, Hawaii, Louisiana, Minnesota, all of the Canadian Provinces, and the Yukon Territory (56 FR 47982, September 23, 1991). In 1992, the list was revised to include the Wisconsin bus inspection program (57 FR 56400, November 27, 1992). In 1994, the list was revised to include the Texas CMV inspection program (59 FR 17829, April 14, 1994). In 1995, the list was revised to include the Connecticut bus inspection program (60 FR 56183, November 7, 1995). In 1998 the most recent revision was made to include the Ohio inspection program for church buses (63 FR 8516, February 19, 1998).

Including Ohio, there are 23 States, the Alabama Liquefied Petroleum Gas Board, the District of Columbia, 10 Canadian Provinces, and one Canadian Territory that have periodic inspection programs which have been determined to be comparable to, or as effective as, the Federal requirements.

Determination: State of Ohio Bus Inspection Program

The State of Ohio (the State) has implemented mandatory annual inspection requirements for all buses as part of its program to improve the safety of operation of motor carriers of passengers. Beginning July 1, 2001, the State prohibits any person from operating buses that are originally designed to transport 16 or more passengers, including the driver, or that have a gross vehicle weight rating of 4,536 kilograms (10,001 pounds) or more, unless the vehicle displays a valid safety inspection decal issued by the State Highway Patrol (§ 4513.51 of the Ohio Revised Code). The state continues to require that a church using a bus registered as a “hurch bus” (in accordance with § 4503.7 of the Ohio Revised Code), and that transports members to and from church services or functions, submit an application for the registration of the bus to the Bureau of Motor Vehicles. As part of the annual registration application, the church must include a certificate from the State Highway Patrol as proof the bus has been inspected and is safe for operation in accordance with the standards prescribed by the Superintendent of the State Highway Patrol. The requirement for the safety certificate is applicable to church buses that are originally designed to transport 16 or more passengers, including the driver, or that have a gross vehicle weight rating of 4,536 kilograms (10,001 pounds) or more. The bus inspections required by §§ 4503.7 and 4513.51 of the Ohio Revised Code are performed by the State Highway Patrol at State facilities or the bus owner's garage.

The FMCSA has determined that both the Ohio church bus inspection program in effect as of March 31, 1997, and the inspection program for buses (other than church buses) effective July 1, 2001, are comparable to, or as effective as, the Federal periodic inspection requirements. Therefore, motor carriers of passengers operating buses which are subject to the State's programs and which are subject to the FMCSRs must use the State's programs to satisfy the Federal requirements under 49 CFR 396.17.

In accepting the State's periodic inspection programs, the FMCSA also approves the recordkeeping requirements associated with the inspection program. The inspection report used to record the church bus inspection is a two-part form. If the vehicle passes the inspection, the bottom portion of the form is given to the bus operator to submit to the Bureau of Motor Vehicles as part of the application for vehicle registration (e.g., purchasing the annual church bus license plate). The top portion of the inspection report is maintained by the State Highway Patrol. The State church bus license plate (with a current validation sticker) is considered by the FMCSA as satisfying the Federal requirement for proof of inspection on the commercial motor vehicle.

For buses other than church buses inspection decals are issued and must be displayed on the commercial motor vehicle.

States with Equivalent Periodic Inspection Programs

The following is a complete list of States, and one Board, which performs the periodic inspection function of a State, with inspection programs which the FMCSA has determined are comparable to, or as effective as, the Federal requirements.

Alabama (LPG Board)

Arkansas

California

Connecticut

District of Columbia

Hawaii

Illinois

Louisiana

Maine

Maryland

Michigan

Minnesota

New Hampshire

New Jersey

New York

Ohio

Oklahoma

Pennsylvania

Rhode Island

Texas

Utah

Vermont

Virginia

West Virginia

Wisconsin

In addition to the States listed above, the FMCSA has determined the inspection programs of the 10 Canadian Provinces (Alberta, British Columbia, Manitoba, New Brunswick, Newfoundland, Nova Scotia, Ontario, Prince Edward Island, Quebec and Saskatchewan) and the Yukon Territory are comparable to, or as effective as, the Federal periodic inspection requirements.

All other States either have no periodic inspection programs for CMVs or their programs have not been determined by the FMCSA to be comparable to, or as effective as, the Federal requirements. If any of these States wish to establish a program or modify their programs in order to make them comparable to the Federal requirements, the State should contact the appropriate FMCSA division office.

Issued on: June 11, 2001.
Stephen E. Barber
Acting Deputy Administrator.

[FR Doc. 01-15331 Filed 6-15-01; 8:45 am]

BILLING CODE 4910-EX-P